FEDERAL COMMUNICATIONS COMMISSION

47 CFR Part 73

[DA 02-3154, MM Docket No. 00-180, RM-9956]

Digital Television Broadcast Service; Fort Myers, FL

AGENCY: Federal Communications Commission.

ACTION: Final rule.

SUMMARY: The Commission, at the request of Fort Myers Broadcasting Company, substitutes DTV channel 9 for DTV channel 53 at Fort Myers. See 65 FR 59389, October 5, 2000. DTV channel 9 can be allotted to Fort Myers, Florida, in compliance with the principle community coverage requirements of Section 73.625(a) at reference coordinates 26-48-01 N. and 81-45-47 W., with a power of 20, HAAT of 451 meters and with a DTV service population of 1134 thousand. With this action, this proceeding is terminated.

DATES: Effective January 6, 2003.

FOR FURTHER INFORMATION CONTACT: Pam Blumenthal, Media Bureau, (202) 418-1600.

SUPPLEMENTARY INFORMATION: This is a synopsis of the Commission's Report and Order, MM Docket No. 00-180, adopted November 14, 2002, and released November 20, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under Florida, is amended by removing DTV channel 53 and adding DTV channel 9 at Fort Myers.

Federal Communications Commission.
Barbara A. Kreisman,
Chief, Video Division, Media Bureau.

[FR Doc. 02-29686 Filed 11-20-02; 8:45 am]

BILLING CODE 6712-01-P